Title 3—

The President

Executive Order 14054 of November 18, 2021

Termination of Emergency With Respect to the Situation in Burundi

By the authority vested in me as President by the Constitution and the laws of the United States of America, including the International Emergency Economic Powers Act (50 U.S.C. 1701 et seq.), the National Emergencies Act (50 U.S.C. 1601 et seq.) (NEA), section 212(f) of the Immigration and Nationality Act of 1952 (8 U.S.C. 1182(f)), and section 301 of title 3, United States Code,

I, JOSEPH R. BIDEN JR., President of the United States of America, find that the situation that gave rise to the declaration of a national emergency in Executive Order 13712 of November 22, 2015 (Blocking Property of Certain Persons Contributing to the Situation in Burundi), with respect to the situation in Burundi, including the killing of and violence against civilians, unrest, incitement of imminent violence, and significant political repression, which threatened the peace, security, and stability of Burundi, has been significantly altered by events of the past year, including the transfer of power following elections in 2020, significantly decreased violence, and President Ndayishimiye's pursuit of reforms across multiple sectors. Accordingly, I hereby terminate the national emergency declared in Executive Order 13712, and revoke that order, and further order:

Section 1. In light of the revocation of Executive Order 13712, the suspension of entry as immigrants and nonimmigrants of individuals meeting the criteria set forth in section 1(a) of that order will no longer be in effect as of the date of this order and such individuals will no longer be treated as persons covered by Presidential Proclamation 8693 of July 24, 2011 (Suspension of Entry of Aliens Subject to United Nations Security Council Travel Bans and International Emergency Economic Powers Act Sanctions).

Sec. 2. Pursuant to section 202(a) of the NEA (50 U.S.C. 1622(a)), termination of the national emergency declared in Executive Order 13712 shall not affect any action taken or proceeding pending not finally concluded or determined as of the date of this order, any action or proceeding based on any act committed prior to the date of this order, or any rights or duties that matured or penalties that were incurred prior to the date of this order.

Sec. 3. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

November 18, 2021.

[FR Doc. 2021-25548

Filed 11-18-21; 11:15 am]

Billing code 3395-F2-P